DEPARTMENT OF TRANSPORTATION

Federal Aviation Administration

14 CFR Part 39

[Docket No. FAA-2009-0246; Directorate Identifier 2009-NE-04-AD]

RIN 2120-AA64

Airworthiness Directives; Rolls-Royce Corporation AE 3007A1/1, AE 3007A1/3, AE 3007A1, AE 3007A1E, AE 3007A1P, AE 3007A3, AE 3007C, and AE 3007C1 Turbofan Engines

AGENCY: Federal Aviation Administration (FAA), DOT.

ACTION: Notice of proposed rulemaking (NPRM).

SUMMARY: The FAA proposes to adopt a new airworthiness directive (AD) for Rolls-Royce Corporation (RRC) AE 3007A1/1, AE 3007A1/3, AE 3007A1, AE 3007A1E, AE 3007A1P, AE 3007A3, AE 3007C, and AE 3007C1 turbofan engines with a fan spinner part number (P/N) 23070964 or P/N 23078783, installed. This proposed AD would require replacement of the fan spinner. This proposed AD results from a report of a fan spinner releasing from an AE 3007A turbofan engine, during flight. We are proposing this AD to prevent the fan spinner from releasing, which could result in injury, damage to the engine, and damage to the airplane.

DATES: We must receive any comments on this proposed AD by August 24, 2009.

ADDRESSES: Use one of the following addresses to comment on this proposed AD.

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact Rolls-Royce Corporation, P.O. Box 420, Indianapolis, IN 46206; telephone (317) 230-3774; fax (317) 230-8084; e-mail: indy.pubs.services@rolls-royce.com, for a copy of the service information identified in this proposed AD.

FOR FURTHER INFORMATION CONTACT: Michael Downs, Aerospace Engineer, Chicago Aircraft Certification Office, FAA, Small Airplane Directorate, 2300 East Devon Avenue, Des Plaines, IL 60018; e-mail: michael.downs@faa.gov; telephone: (847) 294-7870; fax: (847) 294-7834.

SUPPLEMENTARY INFORMATION:

Comments Invited

We invite you to send us any written relevant data, views, or arguments regarding this proposal. Send your comments to an address listed under ADDRESSES. Include “Docket No. FAA-2009-0246; Directorate Identifier 2009-NE-04-AD” in the subject line of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

We received a report of a fan spinner releasing from an AE 3007A turbofan engine, during flight. After observing noise and vibration, the flight crew shut down the No. 1 engine and made an uneventful landing. Inspection of the No. 1 engine revealed a missing fan spinner and damage to the fan blades. Also noted was debris penetration through the forward engine cowl in three locations, and through the airplane outer skin in two locations. At the time of inspection, the No. 1 engine had accumulated 11,682 operating hours time-since-new, and 8,535 cycles-in-service-since-new. RRC then performed spin pit testing of the affected design fan spinner, and found a high stress concentration in the 12 bolt hole windows of the fan spinner. This stress concentration can potentially develop into low-cycle-fatigue cracks. This condition, if not corrected, could result in the fan spinner releasing, which could result in injury, damage to the engine, and damage to the airplane.

FAA's Determination and Requirements of the Proposed AD

We have evaluated all pertinent information and identified an unsafe condition that is likely to exist or develop on other products of this same type design. We are proposing this AD, which would require replacement of the fan spinner, P/N 23070964 or P/N 23078783.

Costs of Compliance

We estimate that this proposed AD would affect 1,600 RRC AE 3007A series and AE 3007C series turbofan engines installed on airplanes of U.S. registry. We also estimate that it would take about one work-hour per engine to perform the proposed actions, and that the average labor rate is $80 per work-hour. Required parts would cost about $12,943 per engine. Based on these figures, we estimate the total cost of the proposed AD to U.S. operators to be $20,836,800.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. You may get a copy of this summary at the address listed under ADDRESSES.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Rolls-Royce Corporation (formerly Allison Engine Company): Docket No. FAA-2009-0246; Directorate Identifier 2009-NE-04-AD.

Comments Due Date

(a) The Federal Aviation Administration (FAA) must receive comments on this airworthiness directive (AD) action by August 24, 2009.

Affected ADs

(b) None.

Applicability

(c) This AD applies to Rolls-Royce Corporation (RRC) AE 3007A1/1, AE 3007A1/3, AE 3007A1, AE 3007A1E, AE 3007A1P, AE 3007A3, AE 3007C, and AE 3007C1 turbofan engines with a fan spinner part number (P/N) 23070964 or P/N 23078783, installed. These engines are installed on, but not limited to, Embraer EMB-135, EMB-145, and Cessna Citation X airplanes.

Unsafe Condition

(d) This AD results from a report of a fan spinner releasing from an AE 3007A turbofan engine during flight. We are issuing this AD to prevent the fan spinner from releasing, which could result in injury, damage to the engine, and damage to the airplane.

Compliance

(e) You are responsible for having the actions required by this AD performed within the compliance times specified unless the actions have already been done.

Replacement of the Fan Spinner

(f) For RRC AE 3007A1/1, AE 3007A1/3, AE 3007A1, AE 3007A1E, AE 3007A1P, and AE 3007A3 turbofan engines, remove fan spinner P/N 23070964 or P/N 23078783 at the next shop visit, but no later than 1,500 additional cycles-in-service (CIS) after the effective date of this AD.

(g) For RRC AE 3007C and AE 3007C1 turbofan engines, remove fan spinner P/N 23070964 or P/N 23078783 at the next shop visit, but no later than 1,500 additional CIS after the effective date of this AD.

Fan Spinner Installation Prohibition

(h) After the effective date of this AD, do not install any fan spinner P/N 23070964 or P/N 23078783 on any Rolls Royce Corporation engine.

Definition

(i) For the purpose of this AD, a shop visit is induction of the engine into the engine maintenance shop for any cause.

Alternative Methods of Compliance

(j) The Manager, Chicago Aircraft Certification Office, has the authority to approve alternative methods of compliance for this AD if requested using the procedures found in 14 CFR 39.19.

Related Information

(k) Contact Michael Downs, Aerospace Engineer, Chicago Aircraft Certification Office, FAA, Small Airplane Directorate, 2300 East Devon Avenue, Des Plaines, IL 60018; e-mail: michael.downs@faa.gov; telephone: (847) 294-7870; fax: (847) 294-7834, for more information about this AD.

(l) Rolls-Royce Corporation Service Bulletin (SB) No. AE 3007A-72-361, dated June 26, 2008, and SB No. AE 3007C-72-285, dated June 26, 2008, pertain to the subject of this AD. Contact Rolls-Royce Corporation, P.O. Box 420, Indianapolis, IN 46206; telephone (317) 230-3774; fax (317) 230-8084; e-mail: indy.pubs.services@rolls-royce.com, for a copy of this service information.

Issued in Burlington, Massachusetts, on June 17, 2009.
Carlos Pestana,
Acting Manager, Engine and Propeller Directorate, Aircraft Certification Service.

[FR Doc. E9-14812 Filed 6-23-09; 8:45 am]

BILLING CODE 4910-13-P